POSTAL SERVICE

Product Change—Priority Mail Express, Priority Mail, and USPS Ground Advantage Negotiated Service Agreements; Priority Mail and USPS Ground Advantage Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: September 24, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
09/15/25 | PME-PM-GA 1413 | MC2025-1690 | K2025-1680
09/15/25 | PME-PM-GA 1414 | MC2025-1691 | K2025-1681
09/15/25 | PM-GA 855 | MC2025-1693 | K2025-1683
09/15/25 | PM-GA 856 | MC2025-1694 | K2025-1684
09/16/25 | PME-PM-GA 1415 | MC2025-1695 | K2025-1685
09/18/25 | PM-GA 857 | MC2025-1696 | K2025-1686
09/18/25 | PM-GA 858 | MC2025-1698 | K2025-1688
09/18/25 | PM-GA 859 | MC2025-1699 | K2025-1689
09/18/25 | PM-GA 860 | MC2025-1700 | K2025-1690
09/19/25 | PME-PM-GA 1416 | MC2025-1701 | K2025-1691

Documents are available at www.prc.gov.

Sean C. Robinson,
Attorney, Corporate and Postal Business Law.

[FR Doc. 2025-18457 Filed 9-23-25; 8:45 am]

BILLING CODE 7710-12-P